DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension of Application for Approval of a Representative's Fee in Black Lung Proceedings Conducted by the U.S. Department of Labor (CM-972); and OFCCP Complaint Form (CC-4).

DATES: Written comments must be submitted to the office listed in the addressee section below on or before August 17, 2001.

ADDRESSES: Ms. Patricia A. Forkel, U. S. Department of Labor, 200 Constitution Ave., NW., Room S-3201, Washington, DC 20210, telephone (202) 693-0339 (this is not a toll-free number), fax (202) 693-1451.

SUPPLEMENTARY INFORMATION:

Application for Approval of a Representative's Fee in Black Lung Proceedings Conducted by the U.S. Department of Labor (CM-972)

I. Background

Individuals filing with the U.S. Department of Labor, Office of Workers' Compensation Programs (OWCP), Division of Coal Mine Workers' Compensation (DCMWC) for benefits under the Black Lung Benefits Act may elect to be represented or assisted by an attorney or other representative. For those cases that are approved, 30 U.S.C. 901 of the Black Lung Benefits Act and 20 CFR 725.365-6 established standards for the information and documentation that must be submitted to the Program for review to approve a fee for services. The CM-972 is the form used for this purpose.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of this information collection in order to evaluate applications to approve fees for services rendered.

Type of Review: Extension.

Agency: Employment Standards Administration.

Title: Application for Approval of a Representative's Fee in a Black Lung Claim Proceeding Conducted by the U. S. Department of Labor.

OMB Number: 1215-0171.

Agency Number: CM-972.

Affected Public: Businesses or other for-profit.

Frequency: On occasion.

Total Respondents: 500.

Time per Response: 42 minutes.

Estimated Total Burden Hours: 350.

Total Burden Cost (capital/startup): $0.

Total Burden Cost (operating/maintenance): $0.

OFCCP Complaint Form (CC-4)

I. Background

The Office of Federal contract compliance Programs administers three equal employment opportunity programs: Executive Order 11246, as amended; Section 503 of the Rehabilitation Act of 1973, as amended; and 38 U.S.C. 4212, the Vietnam Era Veterans' Readjustment Assistance Act of 1974, as amended. These programs require affirmative action by Federal contractors and subcontractors and prohibit discrimination on the basis of race, color, sex, religion, national origin, disability, or veteran status. All three programs give individuals the right to file complaints. It is now well established in law that no private right of action exists under the three programs and that the exclusive remedy for complainants is the administrative procedures of the U.S. Department of Labor which are initiated by a written complaint. This is done on the Complaint Form CC-4, Complaint of Discrimination in Employment Under Federal Government Contracts, which is used for all three programs. Under Executive Order 11246, as amended, the authority for collection of complaint information is found at Section 206(b). The implementing regulations which specify the content of this information collection are found at 41 CFR 60-1.23(a).

Under the Vietnam Era Veterans' Readjustment Assistance Act of 1974, as amended, the authority for collecting complaint information is at 38 U.S.C. 4212(b). The implementing regulations which specify the content of this information collection are found at 41 CFR 60-250.26(c).

Section 503 (b) of the Rehabilitation Act of 1973, as amended, is the authority for collecting complaint information under this statute. The implementing regulations which specify the content of this information collection are found at 41 CFR 60-741.61.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks an extension of approval of this information collection in order to collect information necessary to investigate complaints of discrimination.

Type of Review: Extension.

Agency: Employment Standards Administration.

Title: OFCCP Complaint Form.

OMB Number: 1215-0131.

Agency Number: CC-4.

Affected Public: Individuals or households.

Total Respondents: 1,046.

Frequency: On 1,046.

Time per Response: 1.28 hours.

Estimated Total Burden Hours: 1,339.

Total Burden Cost (capital/startup): $0.

Total Burden Cost (operating/maintenance): $387.02.

Comments submitted in response to this notice will be summarized and/or included in the request for Office of Management and Budget approval of the information collection request; they will also become a matter of public record.

Dated: June 5, 2001.
Margaret J. Sherrill,
Chief, Branch of Management Review and Internal Control, Division of Financial Management, Office of Management, Administration and Planning, Employment Standards Administration.

[FR Doc. 01-15191 Filed 6-15-01; 8:45 am]

BILLING CODE 4510-CK-P